DEPARTMENT OF DEFENSE

Office of the Secretary

Meeting of the President's Commission on Care for America's Returning Wounded Warriors

AGENCY: Department of Defense

ACTION: Federal Advisory Committee Sub Committee Meeting notice.

SUMMARY: Pursuant to the Federal Advisory Committee Act of 1972 (5 U.S.C., Appendix, as amended), the Sunshine in the Government Act of 1976 (5 U.S.C. 552b, as amended) and 41 Code of Federal Regulations (CFR) §§ 102-3.140 through 160, the Department of Defense announces the forthcoming sub committee meeting.

Subcommittees of the Commission will conduct preparatory work meetings in the Chicago area to gather information, conduct research and analyze issues and facts in preparation for a meeting of the Commission. Pursuant to section 102-3.160(a) of 41 Code of Federal Regulations (CFR), these subcommittee meetings are not open to the public, and the subcommittees are required to report their findings to the Commission for further deliberation. Locations include the DoD/VA combined Health Center at Naval Training Center Great Lakes. Additionally, the Sub Committees will visit public and private hospitals in the area for investigation of Centers of Excellence that apply to the Commission's Charter.

Dated: May 11, 2007.
L.M. Bynum,
Alternate OSD Federal Register Liaison Officer, DoD.

[FR Doc. 07-2421 Filed 5-16-07; 8:45 am]

BILLING CODE 5001-06-M